FEDERAL COMMUNICATIONS COMMISSION

47 CFR Part 79

[MB Docket No. 11-154; DA 13-1785]

Closed Captioning of Internet Protocol-Delivered Video Programming: Implementation of the Twenty-First Century Communications and Video Accessibility Act of 2010

AGENCY: Federal Communications Commission.

ACTION: Proposed rule; extension of comment and reply comment period.

SUMMARY: In this document, the Commission extends the deadline for filing comments and reply comments on the Commission's Further Notice of Proposed Rulemaking (FNPRM) in this proceeding, which was published in the Federal Register on July 2, 2013. The extension will allow consumers and industry to engage in collaborative dialogue on the issues raised in the FNPRM and will facilitate the development of a more complete record.

DATES: The comment and reply comment period for the proposed rule published July 2, 2013 (78 FR 39691) is extended. Submit comments on or before November 4, 2013, and submit reply comments on or before December 4, 2013.

ADDRESSES: You may submit reply comments, identified by MB Docket No. 11-154, by any of the following methods:

• Federal eRulemaking Portal: http://www.regulations.gov. Follow the instructions for submitting comments.

• Federal Communications Commission's Electronic Comment Filing System (ECFS) Web site: http://fjallfoss.fcc.gov/ecfs2/. Follow the instructions for submitting comments.

• Mail: Filings can be sent by hand or messenger delivery, by commercial overnight courier, or by first-class or overnight U.S. Postal Service mail. All filings must be addressed to the Commission's Secretary, Office of the Secretary, Federal Communications Commission.

• People with Disabilities: Contact the FCC to request reasonable accommodations (accessible format documents, sign language interpreters, CART, etc.) by email: FCC504@fcc.gov or phone: (202) 418-0530 or TTY: (202) 418-0432. For detailed instructions on submitting comments and additional information on the rulemaking process, see the SUPPLEMENTARY INFORMATION section of the Proposed Rule, 78 FR 39691.

FOR FURTHER INFORMATION CONTACT: Maria Mullarkey, Maria.Mullarkey@fcc.gov, of the Policy Division, Media Bureau, (202) 418-2120.

SUPPLEMENTARY INFORMATION: This is a summary of the Commission's Order in MB Docket No. 11-154, DA 13-1785, adopted and released on August 20, 2013, which extends the comment and reply comment filing deadlines established in the FNPRM published under FCC No. 13-84 at 78 FR 39691, July 2, 2013. The full text of this document is available for public inspection and copying during regular business hours in the FCC Reference Center, Federal Communications Commission, 445 12th Street SW., Room CY-A257, Washington, DC 20554. Documents will be available electronically in ASCII, Microsoft Word, and/or Adobe Acrobat. The complete text may be purchased from the Commission's copy contractor, 445 12th Street SW., Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Background

1. On June 14, 2013, the Commission released a Further Notice of Proposed Rulemaking (FNPRM) in MB Docket No. 11-154. The FNPRM set deadlines for filing comments and reply comments at 60 and 90 days, respectively, after publication of the FNPRM in the Federal Register. A summary of the FNPRM was published in the Federal Register on July 2, 2013. 78 FR 39691. Accordingly, the filing dates were established as September 3, 2013 for comments and September 30, 2013 for reply comments. On August 14, 2013, Telecommunications for the Deaf and Hard of Hearing, Inc. (TDI) et al. (collectively, Consumer Groups) filed a request to extend the comment deadline by 60 days and to extend the reply comment deadline by 30 days thereafter. Consumer Groups state that an extension is warranted because it will give consumers and consumer electronics industry members time to engage in a collaborative dialogue on the issues raised in the FNPRM before submitting comments and reply comments, and it will enable Consumer Groups to retain pro bono counsel to file comments and reply comments on their behalf. We grant the requested extension.

2. As set forth in Section 1.46 of the Commission's Rules, 47 CFR 1.46(a), the Commission's policy is that extensions of time for filing comments in rulemaking proceedings shall not be routinely granted. In the instant case, however, we find that granting an extension of the comment and reply comment periods will serve the public interest by allowing consumer and industry representatives additional time to engage in collaborative consideration of the FNPRM issues and by facilitating the development of a more complete record. Further, given that the Commission has temporarily extended the deadline for compliance with the closed captioning rules for DVD and Blu-ray players and has not adopted apparatus synchronization requirements, we find that the request for 60 additional days for filing comments, with 30 days thereafter for filing reply comments, would not impose a burden on industry.

Ordering Clauses

Pursuant to Section 4(i) of the Communications Act of 1934, as amended, 47 U.S.C. 154(i), and Sections 0.61, 0.283, and 1.46 of the Commission's rules, 47 CFR 0.61, 0.283, and 1.46, the Motion for Extension of Time filed by Telecommunications for the Deaf and Hard of Hearing, Inc. et al. is granted, the deadline to file comments in this proceeding is extended to November 4, 2013, and the deadline to file reply comments in this proceeding is extended to December 4, 2013.

Federal Communications Commission.
Thomas Horan,
Chief of Staff, Media Bureau.

[FR Doc. 2013-21648 Filed 9-4-13; 8:45 am]

BILLING CODE 6712-01-P